FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 8, 2020.

A. Federal Reserve Bank of New York (Ivan Hurwitz, Senior Vice President) 33 Liberty Street, New York, New York 10045-0001. Comments can also be sent electronically to Comments.applications@ny.frb.org:

1. Martha P. Maguire, Guilford, Connecticut; as trustee of the following trusts: JGD III (J. Gordon Douglas, III) & DESC UA 8 A3 UW MB (Margaret Boegner) BGI Trusts, New York, New York; the Andrew P. Sidamon-Eristoff 2003 Grantor Retained Annuity Trust, the Elizabeth Sidamon-Eristoff 2003 Grantor Retained Annuity Trust, the Simon Sidamon-Eristoff 2003 Grantor Retained Annuity Trust, a Trust f/b/o Allan L. Martin and his Descendants under Article Ninth (A)(1) of the Will of Townsend B. Martin and a Trust f/b/o Michael T. Martin and his descendants under Article Ninth (A)(1) of the Will of Townsend B. Martin, all of Woodbridge, New Jersey; to acquire voting shares of The Bessemer Group, Incorporated, Woodbridge, New Jersey, and thereby indirectly acquire voting shares of Bessemer Trust Company, also of Woodbridge, New Jersey.

B. Federal Reserve Bank of Chicago (Colette A. Fried, Assistant Vice President) 230 South LaSalle Street, Chicago, Illinois 60690-1414:

1. Alliance Bancorp Employee Stock Ownership Plan with 401(k) Provisions, Francesville, Indiana; Shane R. Pilarski, and Ronald K. Kruger, both of Francesville, Indiana; and Alyssa M. Chapman, Winamac, Indiana; all as administrators and as a group acting in concert, to retain voting shares of Alliance Bancorp, and thereby indirectly retain voting shares of Alliance Bank, both of Francesville, Indiana.

Board of Governors of the Federal Reserve System, November 18, 2020.
Michele Taylor Fennell,
Deputy Associate Secretary of the Board.

[FR Doc. 2020-25850 Filed 11-20-20; 8:45 am]

BILLING CODE P